DEPARTMENT OF JUSTICE

Notice of Lodging of Consent Decree Under the Clean Air Act

Under 28 CFR 50.7, notice is hereby given that on December 20, 2001, a proposed Complaint and Consent Decree in United States v. Conoco Inc., Civil Action No. H-01-4430, was lodged with the United States District Court for the Southern District of Texas. Notice of this proposed settlement was first published in the Federal Register on January 2, 2002 (Volume 67, Number 1, page 107), opening a public comment period for thirty (30) days on the Consent Decree and instructing that comments be sent by regular first class mail to the U.S. Department of Justice. As a result of the discovery of anthrax contamination at the District of Columbia mail processing center in mid-October, 2001, the delivery of regular first-class mail sent through the U.S. Postal Service has been disrupted. Consequently, public comments which were addressed to the Department of Justice in Washington, DC and sent by regular, first-class mail through the U.S. Postal Service are not expected to be received in a timely manner. This notice is to provide revised instructions for the submission of comments, to extend the public comment period, and to request that persons resubmit comments on this settlement that were previously addressed to the Washington, DC post office box.

In this action the United States sought civil penalties and injunctive relief against Conoco Inc. (“Conoco”) pursuant to section 113(b) of the Clean Air Act (“CAA”), 42 U.S.C. 7413(b) (1983), amended by, 42 U.S.C. 7413(b) (Supp. 1991), alleged violations at Conoco's 4 refineries in Colorado, Montana, Oklahoma and Louisiana. Under the settlement, Conoco will implement innovative pollution control technologies to greatly reduce emissions of nitrogen oxides (“NOX”) and sulfur dioxide (“SO2”) from refinery process units and adopt facility-wide enhanced monitoring and fugitive emission control programs. In addition, Koch will pay a civil penalty of $1.5 million and spend $5.5 million on supplemental and beneficial environmental projects. The states of Colorado, Montana, Oklahoma and Louisiana will join in this settlement as signatories to the Consent Decree.

The Department of Justice will receive for a period of thirty (30) days from the date of this publication comments relating to the Consent Decree. Persons who have already submitted comments pursuant to the January 2, 2002 notice are requested to resubmit their comments in accordance with these revised instructions. Comments should be addressed to the Assistant Attorney General, Environment and Natural Resources Division, Department of Justice, and sent: (1) c/o Gordon M. Speights Young, Assistant United States Attorney, Southern District of Texas, PO Box 61129, Houston, TX 77208; and/or (2) by facsimile to (202) 353-0296; and/or (3) by overnight delivery, other than through the U.S. Postal Service, to Chief, Environmental Enforcement Section, 1425 New York Avenue, NW, 13th Floor, Washington, DC 20005. Each communication should refer on its face to United States v. Conoco Inc., D.J. Ref. 90-5-2-1-07295/1.

The Consent Decree may be examined at the Office of the United States Attorney, Southern District of Texas, U.S. Courthouse, 515 Rusk, Houston, Texas 77002, and at EPA Region 6, 1445 Ross Avenue, Dallas, Texas 75202. A copy of the proposed Consent Decree may also be obtained by faxing a request to Tonia Fleetwood, Department of Justice Consent Decree Library, fax no. (202) 616-6584; phone confirmation no. (202) 514-1547. There is a charge for the copy (25 cent per page reproduction cost). Upon requesting a copy, please mail a check payable to the “U.S. Treasury”, in the amount of $36.50, to: Consent Decree Library, U.S. Department of Justice, PO Box 7611, Washington, DC 20044-7611. The check should refer to United States v. Conoco Inc., D.J. Ref. 90-5-2-1-07295/1.

Robert Brook,
Assistant Chief, Environmental Enforcement Section, Environment and Natural Resources Division.

[FR Doc. 02-1837 Filed 1-24-02; 8:45 am]

BILLING CODE 4410-15-M